NUCLEAR REGULATORY COMMISSION

Sunshine Act Notice

Agency Holding the Meetings: Nuclear Regulatory Commission.

DATES: Weeks of March 12, 19, 26, April 2, 9, 16, 2007.

Place: Commissioners' Conference Room, 11555 Rockville Pike, Rockville, Maryland.

Status: Public and Closed.

Matters to be Considered:

Week of March 12, 2007

There are no meetings scheduled for the Week of March 12, 2007.

Week of March 19, 2007—Tentative

Tuesday, March 20, 2007

1:30 p.m.—Briefing on Office of Information Services (OIS) Programs, Performance, and Plans (Public Meeting) (Contact: Edward Baker, 301 415-8700)

This meeting will be webcast live at the Web address— http://www.nrc.gov.

Thursday, March 22, 2007

12:55 p.m.—Affirmation Session (Public Meeting) (Tentative)

a. Consumers Energy Company, et al. (Palisades Nuclear Plant); License Transfer Application (Tentative)

b. Motion for Reconsideration of Entergy Nuclear Vermont Yankee, LLC, & Entergy Nuclear Operations, Inc. (Vermont Yankee Nuclear Power Station); Entergy Nuclear Generation Company & Entergy Nuclear Operations, Inc. (Pilgrim Nuclear Power Station), CLI-07-3 (Jan. 22, 2007) (Tentative).

Week of March 26, 2007—Tentative

Thursday, March 29, 2007

9:25 a.m.—Affirmation Session (Public Meeting) (Tentative).

a. CBS Corporation's Petition for Hearing Regarding an NRC Staff Decision not to Docket a CBS Request for an Order that Would Change Decontamination Standards Governing a Westinghouse Materials License at Waltz Mill (Tentative)

9:30 a.m.—Discussion of Management Issues (Closed—Ex. 2)

1:30 p.m.—Discussion of Security Issues (Closed—Ex. 1, 3, & 9)

Week of April 2, 2007—Tentative

There are no meetings scheduled for the Week of April 2, 2007.

Week of April 9, 2007—Tentative

There are no meetings scheduled for the Week of April 9, 2007.

Week of April 16, 2007—Tentative

Monday, April 16, 2007

1:30 p.m.—Discussion of Security Issues (Closed—Ex. 1, 2, & 3)

Tuesday, April 17, 2007

1 p.m.—Briefing on Office of Nuclear Regulatory Research (RES) Programs, Performance, and Plans (Public Meeting) (Contact: Ann Ramey-Smith, 301 415-6877)

This meeting will be webcast live at the Web address— http://www.nrc.gov.

* * * * *

* The schedule for Commission meetings is subject to change on short notice. To verify the status of meetings call (recording)—(301) 415-1292. Contact person for more information: Michelle Schroll, (301) 415-1662.

* * * * *

The NRC Commission Meeting Schedule can be found on the Internet at: http://www.nrc.gov/about-nrc/policy-making/schedule.html.

* * * * *

The NRC provides reasonable accommodation to individuals with disabilities where appropriate. If you need a reasonable accommodation to participate in these public meetings, or need this meeting notice or the transcript or other information from the public meetings in another format (e.g. braille, large print), please notify the NRC's Disability Program Coordinator, Deborah Chan, at 301-415-7041, TDD: 301-415-2100, or by e-mail at DLC@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: March 8, 2007.
R. Michelle Schroll,
Office of the Secretary.

[FR Doc. 07-1320 Filed 3-14-07; 2:22 pm]

BILLING CODE 7590-01-P